DEPARTMENT OF TRANSPORTATION

Federal Aviation Administration

14 CFR Part 39

[Docket No. FAA-2007-28389; Directorate Identifier 2006-NM-171-AD]

RIN 2120-AA64

Airworthiness Directives; Boeing Model 777-200, -200LR, -300, and -300ER Series Airplanes

AGENCY: Federal Aviation Administration (FAA), DOT.

ACTION: Supplemental notice of proposed rulemaking (NPRM); reopening of comment period.

SUMMARY: We are revising an earlier proposed airworthiness directive (AD) for certain Boeing Model 777-200, -200LR, -300, and -300ER series airplanes. The original NPRM would have required revising the Airworthiness Limitations (AWLs) section of the Instructions for Continued Airworthiness by incorporating new limitations for fuel tank systems to satisfy Special Federal Aviation Regulation No. 88 requirements. The original NPRM would also have required the initial performance of certain repetitive inspections specified in the AWLs to phase in those inspections, and repair if necessary. The original NPRM resulted from a design review of the fuel tank systems. This action revises the original NPRM by reducing the initial compliance time of certain repetitive inspections, adding more airplanes, and referring to new service information. We are proposing this supplemental NPRM to prevent the potential for ignition sources inside fuel tanks caused by latent failures, alterations, repairs, or maintenance actions, which, in combination with flammable fuel vapors, could result in fuel tank explosions and consequent loss of the airplane.

DATES: We must receive comments on this supplemental NPRM by March 19, 2008.

ADDRESSES: You may send comments by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC 20590, between 9 a.m. and 5 p.m., Monday through Friday, except Federal holidays.

For service information identified in this AD, contact Boeing Commercial Airplanes, P.O. Box 3707, Seattle, Washington 98124-2207.

Examining the AD Docket

You may examine the AD docket on the Internet at http://www.regulations.gov; or in person at the Docket Management Facility between 9 a.m. and 5 p.m., Monday through Friday, except Federal holidays. The AD docket contains this proposed AD, the regulatory evaluation, any comments received, and other information. The street address for the Docket Office (telephone 800-647-5527) is in the ADDRESSES section. Comments will be available in the AD docket shortly after receipt.

FOR FURTHER INFORMATION CONTACT: Kathrine Rask, Aerospace Engineer, Propulsion Branch, ANM-140S, FAA, Seattle Aircraft Certification Office, 1601 Lind Avenue, SW., Renton, Washington 98057-3356; telephone (425) 917-6505; fax (425) 917-6590.

SUPPLEMENTARY INFORMATION:

Comments Invited

We invite you to send any written relevant data, views, or arguments about this proposed AD. Send your comments to an address listed under the ADDRESSES section. Include “Docket No. FAA-2007-28389; Directorate Identifier 2006-NM-171-AD” at the beginning of your comments. We specifically invite comments on the overall regulatory, economic, environmental, and energy aspects of this proposed AD. We will consider all comments received by the closing date and may amend this proposed AD because of those comments.

We will post all comments we receive, without change, to http://www.regulations.gov, including any personal information you provide. We will also post a report summarizing each substantive verbal contact we receive about this proposed AD.

Discussion

We issued a notice of proposed rulemaking (NPRM) (the “original NPRM”) to amend 14 CFR part 39 to include an airworthiness directive (AD) that would apply to certain Boeing Model 777-200, -200LR, -300, and -300ER series airplanes. That original NPRM was published in the Federal Register on July 3, 2007 (72 FR 36373). That original NPRM proposed to require revising the Airworthiness Limitations (AWLs) section of the Instructions for Continued Airworthiness by incorporating new limitations for fuel tank systems to satisfy Special Federal Aviation Regulation No. 88 requirements. That original NPRM also proposed to require the initial performance of certain repetitive inspections specified in the AWLs to phase in those inspections, and repair if necessary.

Actions Since Original NPRM Was Issued

Since we issued the original NPRM, Boeing has issued Revision October 2007 of section 9 of the 777 Maintenance Planning Data (MPD) Document, D622W001-9 (hereafter referred to as “Revision October 2007 of the MPD”). The original NPRM referred to Revision March 2006 of the MPD as the appropriate source of service information for accomplishing the proposed actions. Among other actions, Revision October 2007 of the MPD revises the task description for AWL No. 28-AWL-01 and increases the repetitive interval for AWL No. 28-AWL-18. (AWL No. 28-AWL-18 was introduced in Revision September 2007 of the MPD). We have revised paragraphs (f), (g), and (h) of this supplemental NPRM to refer to Revision October 2007 of the MPD.

We have also determined that more airplanes would be affected by this supplemental NPRM. All Model 777 airplanes with an original standard airworthiness certificate or original export certificate of airworthiness issued before December 5, 2007, are affected by this supplemental NPRM. Accordingly, we have revised paragraph (c) of this supplemental NPRM. We have also updated the “Costs of Compliance” section of this supplemental NPRM to account for the additional airplanes.

In paragraphs (h)(1)(i) and (h)(2)(i) of the original NPRM, we inadvertently specified the compliance time as “* * * before the accumulation of 36,000 total flight cycles or within 120 months. * * *” The correct compliance time is 16,000 total flight cycles or within 3,000 days, as specified in Revision October 2007 of the MPD. We have revised this supplemental NPRM accordingly.

Changes Made to This Supplemental NPRM

For standardization purposes, we have revised this supplemental NPRM in the following ways:

• We have added a new paragraph (i) to this supplemental NPRM to specify that no alternative inspections, inspection intervals, or CDCCLs may be used unless they are part of a later approved revision of Revision October 2007 of the MPD, or unless they are approved as an alternative method of compliance (AMOC). Inclusion of this paragraph in the AD is intended to ensure that the AD-mandated airworthiness limitations changes are treated the same as the airworthiness limitations issued with the original type certificate.

• We have revised Note 2 of this AD to clarify that an operator must request approval for an AMOC if the operator cannot accomplish the proposed inspections because an airplane has been previously modified, altered, or repaired in the areas addressed by the proposed inspections.

Comments

We gave the public the opportunity to participate in developing the original NPRM. We addressed certain comments received in this supplemental NPRM. The remaining comments are being evaluated and will be addressed in the final rule.

Request To Allow Inspections Done According to a Maintenance Program

Japan Airlines (JAL) requests that we revise paragraph (h) of the original NPRM to allow an operator to update its FAA-approved maintenance program to include the initial inspections and repair for certain AWLs. JAL states that the original NPRM would require accomplishing the initial inspection and repair of certain AWLs, which would require JAL to establish a special inspection and special recordkeeping for the proposed requirement.

We agree and have revised paragraphs (h)(1) and (h)(2) of this supplemental NPRM to specify that accomplishing the applicable AWL as part of an FAA-approved maintenance program before the applicable compliance time constitutes compliance with the applicable requirements of those paragraphs.

Request To Harmonize Task Descriptions

JAL states that, in Revision March 2006 of the MPD, the task descriptions defining the applicable area are different for AWLs Nos. 28-AWL-01 and 28-AWL-02. (AWL No. 28-AWL-01 is a repetitive inspection of the external wires over the center fuel tank, and AWL No. 28-AWL-02 is a CDCCL to maintain the original design features for the external wires over the center fuel tank). JAL believes that the task descriptions for these AWLs should match. JAL presumes that, if one purpose for the inspection is to prevent a spark in the fuel vapor over the center fuel tank, then the applicable area should have a certain tolerance instead of defining the area by exact station number. JAL also requests that “Sta. 1045” be revised to “Sta. 1245” for AWL No. 28-AWL-01.

We agree that the task descriptions for AWL Nos. 28-AWL-01 and 28-AWL-02 should be harmonized, and that there is an error in the station number in the task description for AWL No. 28-AWL-01. Revision October 2007 of the MPD includes a revised task description of AWL No. 28-AWL-01, which addresses JAL's comments. As stated previously, we have revised this supplemental NPRM to refer to Revision October 2007 of the MPD.

Request To Add Additional References to Appendix 1

Boeing requests that we revise Appendix 1 of the original NPRM to reflect the correct airplane maintenance manual (AMM) task titles and numbers for AWLs No. 28-AWL-02, No. 28-AWL-05, No. 28-AWL-06, No. 28-AWL-08, No. 28-AWL-10, No. 28-AWL-12, No. 28-AWL-15, No. 28-AWL-16, No. 28-AWL-17, and No. 28-AWL-19.

JAL requests that we update Appendix 1 of the original NPRM to include all AWLs specified in the MPD, and that we indicate how to maintain the latest version of Appendix 1. JAL also requests that we correct the following errors in Appendix 1 of the original NPRM: (1) For AWL No. 28-AWL-04, change “SWPM 20-10-15” to “SWPM 20-10-13,” and (2) for AWL No. 28-AWL-15, change “28-41-05-404-801” to “28-41-05-400-801.”

We disagree with revising the AMM references, since we have deleted Appendix 1 from this supplemental NPRM. The purpose of Appendix 1 was to assist operators in identifying the AMM tasks that could affect compliance with a CDCCL. However, we have also received several similar comments regarding the appendixes in other NPRMs that address the same unsafe condition on other Boeing airplanes. Those comments indicate that including non-required information in those NPRMs has caused confusion. Further, Revision October 2007 of the MPD contains most of the updated information that is listed in Appendix 1 of the original NPRM. Therefore, we have removed Appendix 1 from this supplemental NPRM.

Request To Revise Note 2

Boeing requests that we revise Note 2 of the original NPRM to clarify the need for an AMOC. Boeing states that the current wording is difficult to follow, and that the note is meant to inform operators that an AMOC to the required MPD AWLs may be required if an operator has previously modified, altered, or repaired in the areas addressed by limitations. Boeing requests that we revise Note 2 as follows:

• Add the words “according to paragraph (g)” at the end of the first sentence.

• Replace the words “revision to” with “deviation from” in the last sentence.

• Delete the words “(g) or” and “as applicable” from the last sentence.

As stated previously, we have simplified the language in Note 2 of this supplemental NPRM for standardization with other similar ADs. The language the commenter requests that we change does not appear in the revised note. Therefore, no additional change to this supplemental NPRM is necessary in this regard.

FAA's Determination and Proposed Requirements of the Supplemental NPRM

We are proposing this supplemental NPRM because we evaluated all pertinent information and determined an unsafe condition exists and is likely to exist or develop on other products of the same type design. Certain changes described above expand the scope of the original NPRM. As a result, we have determined that it is necessary to reopen the comment period to provide additional opportunity for the public to comment on this supplemental NPRM.

Costs of Compliance

We estimate that this supplemental NPRM would affect 127 airplanes of U.S. registry. The following table provides the estimated costs, at an average labor rate of $80 per work hour, for U.S. operators to comply with this supplemental NPRM.

Estimated Costs
Action | Work hours | Parts | Cost per airplane | Number of U.S.-registered airplanes | Fleet cost
Maintenance program revision | 8 | None | $640 | 127 | $81,280
Inspection | 8 | None | 640 | 127 | 81,280

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866,

2. Is not a “significant rule” under the DOT Regulatory Policies and Procedures (44 FR 11034, February 26, 1979), and

3. Will not have a significant economic impact, positive or negative, on a substantial number of small entities under the criteria of the Regulatory Flexibility Act.

You can find our regulatory evaluation and the estimated costs of compliance in the AD Docket.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

Boeing: Docket No. FAA-2007-28389; Directorate Identifier 2006-NM-171-AD.

Comments Due Date

(a) We must receive comments by March 19, 2008.

Affected ADs

(b) None.

Applicability

(c) This AD applies to Boeing Model 777-200, -200LR, -300, and -300ER series airplanes; certificated in any category; with an original standard airworthiness certificate or original export certificate of airworthiness issued before December 5, 2007.

Note 1: Airplanes with an original standard airworthiness certificate or original export certificate of airworthiness issued on or after December 5, 2007, must be already in compliance with the airworthiness limitations (AWLs) specified in this AD because those limitations were applicable as part of the airworthiness certification of those airplanes.

Note 2: This AD requires revisions to certain operator maintenance documents to include new inspections. Compliance with these inspections is required by 14 CFR 91.403(c). For airplanes that have been previously modified, altered, or repaired in the areas addressed by these inspections, the operator may not be able to accomplish the inspections described in the revisions. In this situation, to comply with 14 CFR 91.403(c), the operator must request approval for an alternative method of compliance (AMOC) according to paragraph (j) of this AD. The request should include a description of changes to the required inspections that will ensure the continued operational safety of the airplane.

Unsafe Condition

(d) This AD results from a design review of the fuel tank systems. We are issuing this AD to prevent the potential for ignition sources inside fuel tanks caused by latent failures, alterations, repairs, or maintenance actions, which, in combination with flammable fuel vapors, could result in fuel tank explosions and consequent loss of the airplane.

Compliance

(e) Comply with this AD within the compliance times specified, unless already done.

Service Information

(f) The term “Revision October 2007 of the MPD,” as used in this AD, means Section 9 of the Boeing 777 Maintenance Planning Document (MPD) Document, D622W001-9, Revision October 2007.

Revision of Airworthiness Limitations (AWLs) Section

(g) Before December 16, 2008, revise the AWLs section of the Instructions for Continued Airworthiness by incorporating the information in the sections specified in paragraphs (g)(1) and (g)(2) of this AD into the MPD; except that the initial inspections specified in paragraph (h) of this AD must be done at the compliance times specified in paragraph (h) of this AD.

(1) Subsection D, “AIRWORTHINESS LIMITATIONS—SYSTEMS, FUEL SYSTEMS AIRWORTHINESS LIMITATIONS,” of Revision October 2007 of the MPD.

(2) Subsection E, “PAGE FORMAT: SYSTEMS AIRWORTHINESS LIMITATIONS,” of Revision October 2007 of the MPD.

Initial Inspections and Repair

(h) Do the inspections required by paragraphs (h)(1) and (h)(2) of this AD at the compliance times specified in paragraphs (h)(1) and (h)(2), in accordance with the applicable AWLs described in Subsection E, “PAGE FORMAT: SYSTEMS AIRWORTHINESS LIMITATIONS,” of Revision October 2007 of the MPD. If any discrepancy is found during these inspections, repair the discrepancy before further flight in accordance with Revision October 2007 of the MPD.

(1) At the later of the times specified in paragraphs (h)(1)(i) and (h)(1)(ii) of this AD, do a detailed inspection of external wires over the center fuel tank for damaged clamps, wire chafing, and wire bundles in contact with the surface of the center fuel tank, and repair any discrepancy, in accordance with AWL No. 28-AWL-01. Accomplishing AWL No. 28-AWL-01 as part of an FAA-approved maintenance program before the applicable compliance time specified in paragraph (h)(1)(i) or (h)(1)(ii) of this AD constitutes compliance with the requirements of this paragraph.

(i) Before the accumulation of 16,000 total flight cycles, or within 3,000 days since the date of issuance of the original standard airworthiness certificate or the date of issuance of the original export certificate of airworthiness, whichever occurs first.

(ii) Within 72 months after the effective date of this AD.

Note 3: For the purposes of this AD, a detailed inspection is: “An intensive examination of a specific item, installation, or assembly to detect damage, failure, or irregularity. Available lighting is normally supplemented with a direct source of good lighting at an intensity deemed appropriate. Inspection aids such as mirror, magnifying lenses, etc., may be necessary. Surface cleaning and elaborate procedures may be required.”

(2) At the later of the times specified in paragraphs (h)(2)(i) and (h)(2)(ii) of this AD, do a special detailed inspection (resistance test) of the lightning shield-to-ground termination of the out tank wiring of the fuel quantity indicating system (FQIS) and, as applicable, repair (restore) the bond to ensure the shield-to-ground termination meets specified resistance values, in accordance with AWL No. 28-AWL-03. Accomplishing AWL No. 28-AWL-03 as part of an FAA-approved maintenance program before the applicable compliance time specified in paragraph (h)(2)(i) or (h)(2)(ii) of this AD constitutes compliance with the requirements of this paragraph.

(i) Before the accumulation of 16,000 total flight cycles, or within 3,000 days since the date of issuance of the original standard airworthiness certificate or the date of issuance of the original export certificate of airworthiness, whichever occurs first.

(ii) Within 24 months after the effective date of this AD.

Note 4: For the purposes of this AD, a special detailed inspection is: “An intensive examination of a specific item, installation, or assembly to detect damage, failure, or irregularity. The examination is likely to make extensive use of specialized inspection techniques and/or equipment. Intricate cleaning and substantial access or disassembly procedure may be required.”

No Alternative Inspections, Inspection Intervals, or Critical Design Configuration Control Limitation (CDCCLs)

(i) After accomplishing the actions specified in paragraphs (g) and (h) of this AD, no alternative inspections, inspection intervals, or CDCCLs may be used unless the inspections, intervals, or CDCCLs are part of a later revision of Revision October 2007 of the MPD that is approved by the Manager, Seattle Aircraft Certification Office (ACO); or unless the inspections, intervals, or CDCCLs are approved as an AMOC in accordance with the procedures specified in paragraph (j) of this AD.

Alternative Methods of Compliance (AMOCs)

(j)(1) The Manager, Seattle ACO, FAA, ATTN: Kathrine Rask, Aerospace Engineer, Propulsion Branch, ANM-140S, 1601 Lind Avenue, SW., Renton, Washington 98057-3356; telephone (425) 917-6505; fax (425) 917-6590; has the authority to approve AMOCs for this AD, if requested using the procedures found in 14 CFR 39.19.

(2) To request a different method of compliance or a different compliance time for this AD, follow the procedures in 14 CFR 39.19. Before using any approved AMOC on any airplane to which the AMOC applies, notify your appropriate principal inspector (PI) in the FAA Flight Standards District Office (FSDO), or lacking a PI, your local FSDO.

Issued in Renton, Washington, on February 20, 2008.
Ali Bahrami,
Manager, Transport Airplane Directorate, Aircraft Certification Service.

[FR Doc. E8-3765 Filed 2-27-08; 8:45 am]

BILLING CODE 4910-13-P